DEPARTMENT OF TRANSPORTATION

Office of the Secretary

[Docket No. DOT-OST-2015-0221]

Agency Information Collection Activities: Reinstatement of a Previously Approved Collection of Information

AGENCY: Office of the Secretary of Transportation (OST), U.S. Department of Transportation (DOT).

ACTION: 30-Day notice and request for comments.

SUMMARY: The Department of Transportation (DOT) invites public comments on our intention to request Office of Management and Budget (OMB) approval to renew an information collection (OMB Control Number 2105-0563) in accordance with the requirements of the Paperwork Reduction Act of 1995. The collection is necessary for administration of the BUILD Transportation Discretionary Grants Program. BUILD Transportation grants support surface transportation infrastructure projects that have a significant local or regional impact. A 60-day Federal Register notice was published on December 28, 2018 (83 FR 67484). Since the publication of the 60-day Federal Register notice, no comments were received to the Docket (DOT-OST-2015-0221) and therefore no review of comments was required, so none was performed by the Department.

DATES: Written comments should be submitted by: April 1, 2019.

ADDRESSES: To ensure that you do not duplicate your docket submissions, please submit them by only one of the following means:

• Federal eRulemaking Portal: Go to http://www.regulations.gov and follow the online instructions for submitting comments.

• Mail: Docket Management Facility, U.S. Department of Transportation, 1200 New Jersey Ave. SE, West Building Ground Floor, Room W12-140, Washington, DC 20590-0001.

• Hand Delivery: West Building Ground Floor, Room W-12-140 1200 New Jersey Ave. SE, between 9 a.m. and 5 p.m., Monday through Friday, except Federal holidays. The telephone number is 202-366-9329.

Instructions: To ensure proper docketing of your comment, please include the agency name and docket number [DOT-OST-2015-0221] at the beginning of your comments. All comments received will be posted without change to http://www.regulations.gov, including any personal information provided.

FOR FURTHER INFORMATION CONTACT: Howard Hill, Office of the Under Secretary for Transportation Policy, at 202-366-0301 or BUILDgrants@dot.gov.

SUPPLEMENTARY INFORMATION: OMB Control Number: 2105-0563.

Title: National Infrastructure Investments or “BUILD Transportation Discretionary Grants”.

Form Numbers: None.

Type of Review: Revision of a currently approved collection.

Background: The Better Utilizing Investments to Leverage Development or “BUILD Transportation Discretionary Grants” program was created as part of the American Recovery and Reinvestment Act of 2009. Through the Recovery Act and nine appropriations acts, Congress provided DOT with funding for ten rounds of competitive grants totaling nearly $5.6 billion for capital and planning investments in surface transportation infrastructure. DOT published a notice in the Federal Register on April 27, 2018 announcing the availability of $1.5 billion for the latest round of BUILD Transportation Discretionary Grants (83 FR 18651-01). BUILD recipients provide information to the Government so that the Government may monitor the financial conditions and construction progress of BUILD-supported projects and the effectiveness of those projects using performance measurement metrics negotiated between the recipients and the Government.

This notice seeks comments on the existing information collection, which collects information from grantees that is necessary for grant applications and the reporting requirements agreed to by recipients of TIGER and BUILD Transportation Discretionary Grants.

The reporting requirements for the program is as follows:

In order to be considered to receive a BUILD grant, a project sponsor must submit an application to DOT containing a project narrative, as detailed in the Notice of Funding Opportunity. The project narrative should include the information necessary for the Department to determine that the project satisfies eligibility requirements as warranted by law. This request renews the existing clearance to cover applications solicited for future National Infrastructure Investments appropriations, solicited in a manner similar to the solicitation for TIGER and BUILD applications.

Following the announcement of a funding award, the recipient and DOT will negotiate and sign a grant agreement. In the grant agreement, the recipient must describe the project that DOT agreed to fund, which is typically the project that was described in the TIGER/BUILD application or a reduced-scope version of that project. The grant agreement must also include a detailed breakdown of the project schedule and a budget listing all major activities that will be completed as part of the project.

During the project management stage, grantees will submit reports on the financial condition of the project and the project's progress. Grantees will submit progress and monitoring reports to the Government on a quarterly basis, beginning on the 20th of the first month of the calendar-year quarter following the execution of a grant agreement, and on the 20th of the first month of each calendar-year quarter thereafter until completion of the project. The report will include an executive summary and sections to show: Project activities; outstanding issues; project schedule; project cost; project funding status; and project quality, along with an SF-425 Federal Financial Report.

This information will be used to monitor grantees' use of Federal funds, ensuring accountability and financial transparency in the TIGER/BUILD program.

Grantees will also submit reports on project performance using certain performance measures that the grantee and the Government select through negotiations. The Grantees will submit a Pre-project Report that will consist of current baseline data for each of the performance measures specified in the grant agreement. The Pre-project Report will include a detailed description of data sources, assumptions, variability, and the estimated level of precision for each measure. The Grantees will submit annual interim Project Performance Measurement Reports to the Government for each of the performance measures. Grantees will submit reports for three years. The Grantees will submit a Project Outcomes Report after the project is completed that will consist of a narrative discussion detailing project successes and/or the influence of external factors on project expectations.

This information collected will be used to analyze project performance.

The Department's estimated burden for this information collection is the following:

Expected Number of Respondents: 850 applications.

Frequency: Quarterly, and Yearly.

Estimated Average Burden per Response: 100 hours for each Application, 1 hour for each Grant Agreement, 6.5 hours for each request for Quarterly Progress and Monitoring Report; 6 hours for each Quarterly Performance Measurement Report.

Estimated Total Annual Burden: 106,325 hours.

The following is detailed information and instructions regarding the specific reporting requirements for each report identified above:

Application

In order to be considered to receive a BUILD Transportation Discretionary Grant, prospective grantees must submit an application to DOT containing a project narrative, as detailed in the Notice of Funding Opportunity, with the following timing and frequency requirements:

○ Frequency: Typically, annually, as funding is appropriated by Congress.

○ Application covers: Project narrative and information necessary for the Department to determine that the project satisfies eligibility requirements.

○ Start: At the opening date of the Notice of Funding Opportunity.

○ End: At the closing date of the Notice of Funding Opportunity.

Grant Agreement

BUILD Transportation Discretionary Grant program grantees will negotiate and sign a grant agreement with DOT, with the following timing and frequency requirements:

○ Frequency: One time.

○ Grant agreement covers: Detailed project scope, schedule, and budget, and terms of agreement between DOT and the grantee.

○ Start: After funding announcements have been made by DOT.

○ End: At the end of the obligation period, as set by Congress, typically two or three years after funding has been appropriated.

Project Progress and Monitoring Report

BUILD Transportation Discretionary Grant program grantees will submit a Project Progress and Monitoring Report to the Government with the following timing and frequency requirements:

○ Frequency: Quarterly.

○ Report covers: Previous quarter.

○ Start: Upon award of grant.

○ End: Once construction is complete.

Grantees use the following structure when preparing this report:

The following list enumerates the required sections in the quarterly progress reports. At the discretion of the USDOT, modifications or additions can be made to produce a quarterly reporting format that will most effectively serve both the Recipient and the USDOT. Some projects will have a more extensive quarterly status than others. For smaller projects, the USDOT may determine that the content of the quarterly reports will be streamlined and project status meetings will be held on a less-frequent basis. The first quarterly progress report should include a detailed description, and where appropriate, drawings, of the items funded.

(a) Project Overall Status. This section provides an overall status of the project's scope, schedule and budget. The Recipient shall note and explain any deviations from the scope of work described in Attachment A, the schedule described in Attachment B, or the budget described in Attachment C.

(b) Project Significant Activities and Issues. This section provides highlights of key activities, accomplishments, and issues occurring on the project during the previous quarter. Activities and deliverables to be reported on should include meetings, audits and other reviews, design packages submitted, advertisements, awards, construction submittals, construction completion milestones, submittals related to any applicable Recovery Act requirements, media or Congressional inquiries, value engineering/constructability reviews, and other items of significance.

(c) Action Items/Outstanding Issues. This section should draw attention to, and track the progress of, highly significant or sensitive issues requiring action and direction in order to resolve. In general, issues and administrative requirements that could have a significant or adverse impact to the project's scope, budget, schedule, quality, safety, and/or compliance with Federal requirements should be included. Status, responsible person(s), and due dates should be included for each action item/outstanding issue. Action items requiring action or direction should be included in the quarterly status meeting agenda. The action items/outstanding issues may be dropped from this section upon full implementation of the remedial action, and upon no further monitoring anticipated.

(d) Project Scope Overview. The purpose of this section is to provide a further update regarding the project scope. If the original scope contained in the grant agreement is still accurate, this section can simply state that the scope is unchanged.

(e) Project Schedule. An updated master program schedule reflecting the current status of the program activities should be included in this section. A Gantt (bar) type chart is probably the most appropriate for quarterly reporting purposes, with the ultimate format to be agreed upon between the Recipient and the USDOT. It is imperative that the master program schedule be integrated, i.e., the individual contract milestones tied to each other, such that any delays occurring in one activity will be reflected throughout the entire program schedule, with a realistic completion date being reported. Narratives, tables, and/or graphs should accompany the updated master program schedule, basically detailing the current schedule status, delays and potential exposures, and recovery efforts. The following information should also be included:

• Current overall project completion percentage vs. latest plan percentage.

• Completion percentages vs. latest plan percentages for major activities such as right-of-way, major or critical design contracts, major or critical construction contracts, and significant force accounts or task orders. A schedule status description should also be included for each of these major or critical elements.

• Any delays or potential exposures to milestone and final completion dates. The delays and exposures should be quantified, and overall schedule impacts assessed. The reasons for the delays and exposures should be explained, and initiatives being analyzed or implemented in order to recover the schedule should be detailed.

(f) Project Cost. An updated cost spreadsheet reflecting the current forecasted cost vs. the latest approved budget vs. the baseline budget should be included in this section. One way to track project cost is to show: (1) Baseline Budget, (2) Latest Approved Budget, (3) Current Forecasted Cost Estimate, (4) Expenditures or Commitments to Date, and (5) Variance between Current Forecasted Cost and Latest Approved Budget. Line items should include all significant cost centers, such as prior costs, right-of-way, preliminary engineering, environmental mitigation, general engineering consultant, section design contracts, construction administration, utilities, construction packages, force accounts/task orders, wrap-up insurance, construction contingencies, management contingencies, and other contingencies. The line items can be broken-up in enough detail such that specific areas of cost change can be sufficiently tracked and future improvements made to the overall cost estimating methodology. A Program Total line should be included at the bottom of the spreadsheet. Narratives, tables, and/or graphs should accompany the updated cost spreadsheet, basically detailing the current cost status, reasons for cost deviations, impacts of cost overruns, and efforts to mitigate cost overruns. The following information should be provided:

• Reasons for each line item deviation from the approved budget, impacts resulting from the deviations, and initiatives being analyzed or implemented in order to recover any cost overruns.

• Transfer of costs to and from contingency line items, and reasons supporting the transfers.

• Speculative cost changes that potentially may develop in the future, a quantified dollar range for each potential cost change, and the current status of the speculative change. Also, a comparison analysis to the available contingency amounts should be included, showing that reasonable and sufficient amounts of contingency remain to keep the project within the latest approved budget.

• Detailed cost breakdown of the general engineering consultant (GEC) services (if applicable), including such line items as contract amounts, task orders issued (amounts), balance remaining for tasks, and accrued (billable) costs.

• Federal obligations and/or disbursements for the project, compared to planned obligations and disbursements.

(g) Federal Financial Report (SF-425). The Federal Financial Report (SF-425) is a financial reporting form used throughout the Federal Government Grant system. Recipients shall complete this form and attach it to each quarterly Project Progress and Monitoring Report. The form is available at http://www.whitehouse.gov/sites/default/files/omb/assets/grants_forms/SF-425.pdf.

(h) Certifications. A certification that the Recipient is in compliance with 2 CFR 200.303 (Internal Controls) and 2 CFR part 200, subpart F (Audit Requirements).

Performance Measurement Reports

BUILD Transportation Discretionary Grant program grantees will submit Performance Measure Reports on the performance (or projected performance) of the project using the performance measures that the grantee and the Government selected through negotiations with the following timing and frequency requirements:

○ Frequency: Quarterly.

○ Report covers: Previous year.

○ Start: Once, upon award of grant; Annual, for three years after construction completes; once, no later than four years after construction completes.

○ End: At the end of agreed upon performance measurement period.

Grantees should use the following structure when preparing this report:

1. Performance Measure Data Collection. The Recipient shall collect the data necessary to report on each performance measure that is identified in the grant agreement. Grantees may select performance measures from the list available at https://www.transportation.gov/administrations/office-policy/tiger-performance-measurement-guidance-appendix, according to the type of project.

2. Pre-project Performance Measurement Report. The Recipient shall submit to DOT, on or before the Pre-project Report Date that is stated in the grant agreement, a Pre-project Performance Measurement Report that contains:

(1) Baseline data for each performance measure that is identified in the grant agreement, accurate as of the Pre-project Measurement Date; and

(2) a detailed description of the data sources, assumptions, variability, and estimated levels of precision for each measure.

3. Interim Performance Measurement Reports. After project completion, the Recipient shall submit to DOT on or before each of the periodic reporting dates specified in the Performance Measurement Table in the grant agreement, an Interim Performance Measurement Report containing data for each performance measure that is identified in that table, accurate as of the final date of the measurement period specified in that table. If an external factor significantly affects the value of a performance measure during a measurement period, then in the Interim Performance Measurement Report the Recipient shall identify that external factor and discuss its influence on the performance measure.

4. Project Outcomes Report. The Recipient shall submit to DOT, on or before the Project Outcomes Report Date that is stated in the grant agreement, a Project Outcomes Report that contains:

(1) A narrative discussion detailing project successes and the influence of external factors on project expectations;

(2) all baseline and interim performance measurement data that the Recipient reported in the Pre-project Performance Measurement Report and the Interim Performance Measurement Reports; and

(3) an ex post examination of project effectiveness relative to the baseline data that the Recipient reported in the Pre-project Performance Measurement Report.

Public Comments Invited: You are asked to comment on any aspect of this information collection, including (a) whether the proposed collection of information is necessary for OST's performance; (b) the accuracy of the estimated burden; (c) ways for OST to enhance the quality, utility and clarity of the information collection; and (d) ways that the burden could be minimized without reducing the quality of the collected information. The agency will summarize and/or include your comments in the request for OMB's clearance of this information collection.

Authority: The Paperwork Reduction Act of 1995; 44 U.S.C. Chapter 35, as amended; and 49 CFR 1:48.

Issued in Washington, DC, on February, 22, 2019.
John Augustine,
Director, Office of Infrastructure Finance and Innovation.

[FR Doc. 2019-03511 Filed 2-27-19; 8:45 am]

BILLING CODE 4910-9X-P